NATIONAL AERONAUTICS AND SPACE ADMINISTRATION

[Notice: 24-074]

NASA STEM Engagement Committee

AGENCY: National Aeronautics and Space Administration.

ACTION: Notice of meeting.

SUMMARY: In accordance with the Federal Advisory Committee Act, the National Aeronautics and Space Administration (NASA) announces a meeting of the STEM Engagement Committee of the NASA Advisory Council (NAC). This Committee reports to the NAC.

DATES: Friday, November 15, 2024, 11:00 a.m.-3:00 p.m. All times are eastern time.

ADDRESSES: Public attendance will be virtual only. See dial-in and Webinar information below under SUPPLEMENTARY INFORMATION.

FOR FURTHER INFORMATION CONTACT: Dr. Tara Strang, Designated Federal Officer, STEM Engagement Committee, NASA Headquarters, Washington, DC 20546, via email at tara.m.strang@nasa.gov or (216) 410-4335.

SUPPLEMENTARY INFORMATION: As noted above, this meeting will be open to the public via Webinar and telephonically. Webinar connectivity information is provided below. For audio, when you join the Webinar event, you may use your computer or provide your phone number to receive a call back, otherwise, call the U.S. toll conference number listed. On November 15, the event address for attendees is: https://nasaevents.webex.com/nasaevents/j.php?MTID=m661bd71715cf9903336448f1e6f5260c.

The webinar number is 2830 496 9893 and the webinar password is mHyZC2XMJ55. If needed, the U.S. toll conference number is +1-415-527-5035 or +1-312-500-3163 and access code is 283 049 69893 and password is 64992296.

The agenda for the meeting includes the following topics:

— Opening Remarks by Chair

— NASA STEM Engagement Update

It is imperative that this meeting be held on these days to accommodate the scheduling priorities of the key participants.

For more information, please visit NASA Advisory Council STEM Engagement Committee—NASA.

Jamie M. Krauk,
Advisory Committee Management Officer, National Aeronautics and Space Administration.

[FR Doc. 2024-24569 Filed 10-22-24; 8:45 am]

BILLING CODE 7510-13-P